DEPARTMENT OF ENERGY

Nuclear Energy Advisory Committee

AGENCY: Office of Nuclear Energy, Department of Energy.

ACTION: Notice of open meeting.

SUMMARY: This notice announces a virtual public meeting of the Nuclear Energy Advisory Committee. The Federal Advisory Committee Act requires that public notice of this meeting be announced in the Federal Register.

DATES: Tuesday, April 30, 2024; 8:30 a.m.-2 p.m. ET.

ADDRESSES: This will be a virtual meeting and will be open to the public. The meeting can be accessed from the NEAC site at the following link: https://www.energy.gov/ne/services/nuclear-energy-advisory-committee.

FOR FURTHER INFORMATION CONTACT: Krystal D. Milam, Designated Federal Officer; (202) 586-2240; Krystal.Milam@nuclear.energy.gov; or Robert Rova, Alternative Designated Federal Officer, (202) 586-4290; Robert.Rova@nuclear.energy.gov; U.S. Department of Energy, 1000 Independence Ave. SW, Washington, DC 20585.

SUPPLEMENTARY INFORMATION:

Purpose of the Committee: The Nuclear Energy Advisory Committee provides advice and recommendations to the Assistant Secretary for Nuclear Energy on national policy and scientific aspects of nuclear issues of concern to DOE; provides periodic reviews of the various program elements within DOE's nuclear programs and recommendations based thereon; ascertains the needs, views, and priorities of DOE's nuclear programs; advises on long-range plans, priorities, and strategies to address more effectively the technical, financial, and policy aspects of such programs; and advises on appropriate levels of resources to develop those plans, priorities, and strategies. The committee is composed of 11 individuals of diverse backgrounds selected for their technical expertise and experience, established records of distinguished professional service, and their knowledge of issues that pertain to nuclear energy.

Purpose of Meeting: The Nuclear Energy Advisory Committee will hold a meeting on Tuesday, April 30, 2024, to discuss committee priorities and proposed recommendations for the Assistant Secretary for Nuclear Energy.

Tentative Agenda: The meeting will start at 8:30 a.m. eastern time on Tuesday, April 30, 2024. The tentative meeting agenda includes: roll call, remarks from the Assistant Secretary for Nuclear Energy, remarks from the NEAC chair, presentations that provide the committee updates on activities for the Office of Nuclear Energy, and public comments. The meeting will conclude at approximately 2 p.m. The agenda may change to accommodate committee business. For updates and meeting materials, one is directed to the NEAC website: https://www.energy.gov/ne/services/nuclear-energy-advisory-committee.

Public Participation: Members of the public who wish to attend can do so virtually via the NEAC website: https://www.energy.gov/ne/services/nuclear-energy-advisory-committee. All attendees are requested to register by April 20, 2024, for the meeting at by emailing Krystal.Milam@nuclear.energy.gov. Written statements may be filed with the Committee either before or after the meeting. Individuals who wish to make oral statements pertaining to agenda items should contact Krystal D. Milam at the address or telephone listed previously. Requests for an oral statement must be received at least five days prior to the meeting. Reasonable provision will be made to include requested oral statements in the agenda. The Designated Federal Officer is empowered to conduct the meeting in a fashion that will facilitate the orderly conduct of business. Individuals wishing to make public comments will be provided a maximum of five minutes to present their comments.

Minutes: Minutes will be available by contacting Krystal D. Milam at the address or telephone number listed previously. Minutes will also be available at the following website: https://www.energy.gov/ne/nuclear-energy-advisory-committee.

Signing Authority: This document of the Department of Energy was signed on March 25, 2024, by David Borak, Deputy Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 26, 2024.
Treena V. Garrett,
Federal Register Liaison Officer, U.S. Department of Energy.

[FR Doc. 2024-06706 Filed 3-28-24; 8:45 am]

BILLING CODE 6450-01-P